ENVIRONMENTAL PROTECTION AGENCY

[FRL OP-OFA-085]

Environmental Impact Statements; Notice of Availability

Responsible Agency: Office of Federal Activities, General Information 202-564-5632 or https://www.epa.gov/nepa.

Weekly receipt of Environmental Impact Statements (EIS)

Filed August 28, 2023 10 a.m. EST Through September 1, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230111, Final, DOE, LA, ADOPTION—CP2 LNG and CP Express Project, Contact: Brian Lavoie 202-586-2459. The Department of Energy (DOE) has adopted the Federal Energy Regulatory Commission's Final EIS No. 20230092 filed 07/28/2023 with the Environmental Protection Agency. The DOE was a cooperating agency on this project. Therefore, republication of the document is not necessary under Section 1506.3(b)(2) of the CEQ regulations.

EIS No. 20230112, Draft Supplement, NRC, FL, Site-Specific Environmental Impact Statement for License Renewal of Nuclear Plants Regarding Subsequent License Renewal for Turkey Point Nuclear Generating Unit Nos. 3 and 4, NUREG-1437, Supplement 5a, Second Renewal, Comment Period Ends: 10/23/2023, Contact: Lance J Rakovan 301-415-2589.

EIS No. 20230113, Draft, USACE, ND, Dakota Access Pipeline Lake Oahe Crossing Project, Comment Period Ends: 11/13/2023, Contact: Brent Cossette 402-995-2716.

EIS No. 20230114, Revised Draft, GSA, AZ, Expansion and Modernization of the Raul Hector Castro Land Port of Entry in Douglas, Arizona, Comment Period Ends: 10/23/2023, Contact: Osmahn Kadri 415-522-3617.

EIS No. 20230115, Final Supplement, USFS, ID, Hungry Ridge Restoration Project, Review Period Ends: 10/10/2023, Contact: Jennie Fischer 208-983-4048.

EIS No. 20230116, Draft Supplement, BLM, USFWS, AK, Coastal Plain Oil and Gas Leasing Program, Comment Period Ends: 10/23/2023, Contact: Serena Sweet 907-271-4543.

Dated: September 5, 2023.
Cindy S. Barger,
Director, NEPA Compliance Division, Office of Federal Activities.

[FR Doc. 2023-19397 Filed 9-7-23; 8:45 am]

BILLING CODE 6560-50-P